DEPARTMENT OF HOMELAND SECURITY

Coast Guard

33 CFR Part 165

[Docket No. USCG-2022-00596]

Safety Zone; Recurring Events in Captain of the Port Duluth Zone—Pointe to La Pointe Swim

AGENCY: Coast Guard, DHS.

ACTION: Notice of enforcement of regulation.

SUMMARY: The Coast Guard will enforce the safety zone for the Pointe to La Pointe Swim event in Bayfield, WI. This action is necessary to protect participants and spectators during the event. During the enforcement period, entry into, transiting, or anchoring within the safety zone is prohibited unless authorized by the Captain of the Port Duluth or a designated on-scene representative.

DATES: The regulation listed in 33 CFR 165.943(a)(9) will be enforced as listed in Table 1 to 33 CFR 165.943 from 7 a.m. through 11 a.m. on August 6, 2022.

FOR FURTHER INFORMATION CONTACT: If you have questions on this document, call or email LTJG Joseph McGinnis, telephone (218)725-3818, email DuluthWWM@uscg.mil.

SUPPLEMENTARY INFORMATION: The Coast Guard will enforce the special local regulation for the annual Pointe to La Pointe Swim event in 33 CFR 165.943(a)(9) from 7 a.m. through 11 a.m. on August 06, 2022 on all waters between Bayfield, WI and Madeline Island, WI within an imaginary line created by the following coordinates: 46°48′27.55″ N, 090°48′56.86″ W, moving southeast to 46°48′21.2″ N, 090°48′59.9″ W, moving south to 46°47′19.91″ N, 090°49′46.18″ W, moving east 46°47′21.18″ N, 090°49′02.39″ W, then moving north to 46°48′21.20″ N, 090°48′56.86″ W and finally running back to the starting point.

Entry into, transiting, or anchoring within the safety zone is prohibited unless authorized by the Captain of the Port Duluth or a designated on-scene representative.

This notice of enforcement is issued under authority of 33 CFR 165.943 and 5 U.S.C. 552(a). In addition to this publication in the Federal Register, the Coast Guard will provide the maritime community with advance notification of the enforcement of this safety zone via Broadcast Notice to Mariners or Local Notice to Mariners. The Captain of the Port Duluth may be contacted via Channel 16, VFH-FM or at (218) 428-9357.

Dated: February 1, 2022.
F.M. Smith,
Commander, U.S. Coast Guard, Captain of the Port.

[FR Doc. 2022-02942 Filed 2-10-22; 8:45 am]

BILLING CODE 9110-04-P